ENVIRONMENTAL PROTECTION AGENCY

[FRL-7168-4]

Meeting of the Local Government Advisory Committee

AGENCY: Environmental Protection Agency (EPA).

ACTION: Notice.

SUMMARY: The Local Government Advisory Committee (LGAC) and its Subcommittees will meet on May 1-3, 2002, in Washington, DC. The Committee will be discussing issues concerning the relationship between Local Governments and the U.S. Environmental Protection Agency (EPA). The focus of the meeting will be the orientation of new members to the Committee, the development of Committee Work Plans for the next 18 months, attendance at sessions of the EPA Science Forum, and discussions and briefings on current environmental issues.

There will also be an orientation session for the new LGAC members in the morning on May 1st to discuss EPA organization and structure, Committee history and rationale, legal requirements for members, and LGAC functions, and current issues.

During the meeting decisions will be made as to Subcommittees and Workgroup organization and these groups plus the standing Small Community Advisory Subcommittee (SCAS) may meet to initiate discussions on topics assigned by the Committee.

The Committee will hear comments from the public between 10 a.m.-10:20 a.m., May 3. Each individual or organization wishing to address the LGAC meeting will be allowed a maximum of five minutes to present their point of view. Please contact the Designated Federal Officer (DFO) at the numbers listed below to schedule agenda time. Time will be allotted on a first come, first served basis, and the total period for comments may be extended, if the number of requests for appearances required it.

These are open meetings and all interested persons are invited to attend. LGAC meeting minutes and Subcommittee summary notes will be available after the meetings and can be obtained by written request from the DFO. Members of the public are requested to call the DFO at the number listed below if planning to attend so that arrangements can be made to comfortably accommodate attendees as much as possible, and to facilitate security clearance to the meeting. Seating will be on a first come, first served basis.

DATES: Formal Committee sessions will begin May 1st, and the orientation session will be held from 10:30 a.m.-12:30 p.m. The Local Government Advisory Committee plenary session will begin at 3:30 p.m. Wednesday, May 1st and conclude at 3:30 pm Friday, May 3rd.

ADDRESSES: The meetings will be held in Washington, D.C. at the EPA's Headquarters, located at 1200 Pennsylvania Avenue, NW—the Ariel Rios North Building. The orientation session will be held in conference room 5530. The LGAC plenary session on Wednesday, Thursday and Friday will be held in the Rachel Carson Great Hall on the 3rd floor

Additional information can be obtained by writing the DFO at 1200 Pennsylvania Avenue, NW (1306A), Washington, DC 20460.

FOR FURTHER INFORMATION CONTACT: The DFO for the Local Government Advisory Committee (LGAC) is Paul Guthrie (202) 564-3649.

Dated: March 27, 2002.
Paul N. Guthrie,
Designated Federal Officer, Local Government Advisory Committee.

[FR Doc. 02-8296 Filed 4-4-02; 8:45 am]

BILLING CODE 6560-50-U